DEPARTMENT OF TRANSPORTATION

Federal Transit Administration

[FTA Docket No. FTA 2022-0032]

Agency Information Collection Activity Under OMB Review: Bus and Bus Facilities Program

AGENCY: Federal Transit Administration, Department of Transportation.

ACTION: Notice of request for comments.

SUMMARY: In accordance with the Paperwork Reduction Act of 1995, this notice announces the intention of the Federal Transit Administration (FTA) to request the Office of Management and Budget (OMB) to approve the extension of a currently approved information collection and update the name of this information collection to Buses and Bus Facilities Formula, Competitive and Low or No Emissions Program.

DATES: Comments must be submitted before January 9, 2023.

ADDRESSES: To ensure that your comments are not entered more than once into the docket, submit comments identified by the docket number by only one of the following methods:

1. Website: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9:00 a.m. and 5:00 p.m., Monday through Friday, except Federal holidays.

Instructions: You must include the agency name and docket number for this notice at the beginning of your comments. Submit two copies of your comments if you submit them by mail. For confirmation that FTA has received your comments, include a self-addressed stamped postcard. Note that all comments received, including any personal information, will be posted and will be available to internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE, Docket Operations, M-30, West Building, Ground Floor, Room W12-140, Washington, DC 20590-0001 between 9:00 a.m. and 5:00 p.m., Monday through Friday, except Federal holidays.

FOR FURTHER INFORMATION CONTACT: Thomas Wilson at (202) 366-5279, or email Thomas.Wilson@dot.gov and Mark Bathrick at (202) 366-9955, or email: Mark.Bathrick@dot.gov.

SUPPLEMENTARY INFORMATION: Interested parties are invited to send comments regarding any aspect of this information collection, including: (1) the necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: 49 U.S.C. 5339 Bus and Bus Facilities Program.

OMB Number: 2132-0576.

Background: The Buses and Bus Facilities Program (49 U.S.C. 5339) makes federal resources available to states, designated recipients, and local governmental entities that operate fixed route bus service to replace, rehabilitate, and purchase buses and related equipment and to construct bus-related facilities including technological changes or innovations to modify low- or no-emission vehicles or facilities. Funding is provided through formula allocations and competitive grants. Two sub-programs provide competitive grants for buses and bus facility projects, including one that supports low and zero-emission vehicles. Under this renewal FTA will seek to update the name of this information collection to Buses and Bus Facilities Formula, Competitive and Low or No Emissions Program to coincide with eligible funding activities.

Respondents: State or local governmental entities; and federally recognized Indian tribes that operate fixed route bus service that are eligible to receive direct grants under 5307 and 5311.

Estimated Annual Number of Respondents: 1,035 respondents.

Estimated Annual Number of Responses: 1,035 responses.

Estimated Total Annual Burden: 57,830 hours.

Frequency: Annually.

Nadine Pembleton,
Deputy Associate Administrator, Office of Administration.

[FR Doc. 2022-24583 Filed 11-9-22; 8:45 am]

BILLING CODE 4910-57-P